DEPARTMENT OF TRANSPORTATION

Federal Motor Carrier Safety Administration

[Docket No. FMCSA-2014-0299]

Qualification of Drivers; Exemption Applications; Vision

AGENCY: Federal Motor Carrier Safety Administration (FMCSA), DOT.

ACTION: Notice of applications for exemptions, request for comments.

SUMMARY: FMCSA announces receipt of applications from 24 individuals for exemption from the vision requirement in the Federal Motor Carrier Safety Regulations. They are unable to meet the vision requirement in one eye for various reasons. If granted the exemptions would enable these individuals to operate commercial motor vehicles (CMVs) in interstate commerce without meeting the prescribed vision requirement in one eye.

DATES: Comments must be received on or before January 9, 2015. All comments will be investigated by FMCSA. The exemptions will be issued the day after the comment period closes.

ADDRESSES: You may submit comments bearing the Federal Docket Management System (FDMS) Docket No. FMCSA-2014-0299 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Elaine M. Papp, R.N., Chief, Medical Programs Division, (202) 366-4001, fmcsamedical@dot.gov, FMCSA, Department of Transportation, 1200 New Jersey Avenue SE., Room W64-224, Washington, DC 20590-0001. Office hours are from 8:30 a.m. to 5 p.m., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 24 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

Michael L. Boersma

Mr. Boersma, 65, has had amblyopia in his left eye since birth. The visual acuity in his right eye is 20/20, and in his left eye, 20/400. Following an examination in 2014, his optometrist stated, “I feel Michael has sufficient vision to perform the driving tasks required to operate a commercial vehicle.” Mr. Boersma reported that he has driven straight trucks for 14 years, accumulating 560,000 miles. He holds an operator's license from North Dakota. His driving record for the last 3 years shows no crashes and no convictions for moving violations in a CMV.

Marc D. Butler

Mr. Butler, 62, has had amblyopia in his right eye since childhood. The visual acuity in his right eye is 20/150, and in his left eye, 20/25. Following an examination in 2014, his ophthalmologist stated, “It is my opinion that Mr. Butler has sufficient visual acuity, color vision and visual field to safely operate a commercial vehicle.” Mr. Butler reported that he has driven straight trucks for 24 years, accumulating 324,000 miles. He holds a Class A CDL from Illinois. His driving record for the last 3 years shows no crashes and no convictions for moving violations in a CMV.

Roger P. Dittrich

Mr. Dittrich, 64, has had loss of vision secondary to retinal detachment and corneal scarring in his right eye since 1971. The visual acuity in his right eye is light perception, and in his left eye, 20/20. Following an examination in 2014, his ophthalmologist stated, “Corneal scar OD. Pt does pass requirements for VA for CDL.” Mr. Dittrich reported that he has driven straight trucks for 44 years, accumulating 880,000 miles, and tractor-trailer combinations for 30 years, accumulating 600,000 miles. He holds a Class AM CDL from Illinois. His driving record for the last 3 years shows no crashes and no convictions for moving violations in a CMV.

Ralph V. Graven

Mr. Graven, 61, has had a retinal detachment in his left eye since 2000. The visual acuity in his right eye is 20/20, and in his left eye, no light perception. Following an examination in 2014, his ophthalmologist stated, “I opine that he has sufficient vision to perform the driving tasks required to operate a commercial vehicle.” Mr. Graven reported that he has driven straight trucks for 43 years, accumulating 322,500 miles, and tractor-trailer combinations for 43 years, accumulating 322,500 miles. He holds a Class A CDL from Oregon. His driving record for the last 3 years shows no crashes and no convictions for moving violations in a CMV.

Dennis R. Grear

Mr. Grear, 69, has had amblyopia in his left eye since childhood. The visual acuity in his right eye is 20/20, and in his left eye, 20/400. Following an examination in 2014, his optometrist stated, “Mr. Grear has been operating a commercial vehicle for many years with his current visual deficiencies and in my opinion he should be able to safely continue to drive a commercial vehicle.” Mr. Grear reported that he has driven straight trucks for 5 years, accumulating 175,000 miles, and tractor-trailer combinations for 42 years, accumulating 2.1 million miles. He holds a Class A CDL from South Dakota. His driving record for the last 3 years shows no crashes and no convictions for moving violations in a CMV.

Michael D. Halferty

Mr. Halferty, 44, has a retinal detachment in his right eye due to a traumatic incident during childhood. The visual acuity in his right eye is hand motion, and in his left eye, 20/20. Following an examination in 2014, his optometrist stated, “It is my opinion that Mr. Halferty has previously performed and has the visual capabilities to continue to perform the driving tasks required to operate a commercial vehicle.” Mr. Halferty reported that he has driven straight trucks for 5 years, accumulating 150,000 miles, and tractor-trailer combinations for 24 years, accumulating three million miles. He holds a Class A CDL from Iowa. His driving record for the last 3 years shows no crashes and no convictions for moving violations in a CMV.

Eric C. Hammer

Mr. Hammer, 42, has had amblyopia with refractive error in his left eye since birth. The visual acuity in his right eye is 20/20, and in his left eye, 20/400. Following an examination in 2014, his optometrist stated, “In my professional opinion, Eric Hammer has sufficient vision to perform the driving tasks required to operate a commercial vehicle.” Mr. Hammer reported that he has driven straight trucks for 13 years, accumulating 390,000 miles, and tractor-trailer combinations for 13 years, accumulating 390,000 miles. He holds a Class A CDL from Missouri. His driving record for the last 3 years shows no crashes and no convictions for moving violations in a CMV.

Thomas F. Hannon

Mr. Hannon, 52, has had a retinal scar in his right eye due to a traumatic incident in childhood. The visual acuity in his right eye is 20/100, and in his left eye, 20/20. Following an examination in 2014, his ophthalmologist stated, “His peripheral vision is completely normal in both eyes and I do not see any reason why he could not perform the duties of a commercial driver, especially visual field-wise since his visual fields are normal except for a central scotoma in the right eye, which is easily compensated for in his left eye.” Mr. Hannon reported that he has driven straight trucks for 1.5 years, accumulating 37,500 miles. He holds an operator's license from Rhode Island. His driving record for the last 3 years shows no crashes and no convictions for moving violations in a CMV.

Robert K. Ipock

Mr. Ipock, 55, has had enucleation due to a tumor in his left eye since childhood. The visual acuity in his right eye is 20/15, and in his left eye, no light perception. Following an examination in 2014, his optometrist stated, “It is in my opinion that Robert K. Ipock has sufficient vision to safely perform the driving tasks required to operate a commercial vehicle.” Mr. Ipock reported that he has driven straight trucks for 25 years, accumulating 262,500 miles. He holds an operator's license from North Carolina. His driving record for the last 3 years shows no crashes and no convictions for moving violations in a CMV.

Kennard D. Julien

Mr. Julien, 45, has had amblyopia and a cataract in his left eye since childhood. The visual acuity in his right eye is 20/15, and in his left eye, 20/200. Following an examination in 2014, his ophthalmologist stated, “Dr [sic] Steiner certifies that is [sic] his opinion, Kennard has sufficient vision to perform the driving tasks required to operate a commercial vehicle.” Mr. Julien reported that he has driven straight trucks for 10 years, accumulating 240,000 miles, and tractor-trailer combinations for 8 years, accumulating 192,000 miles. He holds a Class A CDL from Washington. His driving record for the last 3 years shows no crashes and one conviction for a moving violation in a CMV; he failed to obey a road sign or traffic signal.

Peter M. Kirby

Mr. Kirby, 58, has had phthisical secondary to retinal detachment in his left eye since 2010. The visual acuity in his right eye is 20/20, and in his left eye, no light perception. Following an examination in 2014, his optometrist stated, “In my medical opinion, I feel Mr. Kirby does have sufficient vision to perform the driving tasks required to operate a commercial vehicle.” Mr. Kirby reported that he has driven straight trucks for 35 years, accumulating 3.57 million miles, and tractor-trailer combinations for 35 years, accumulating 1.86 million miles. He holds a Class A CDL from New Jersey. His driving record for the last 3 years shows no crashes and no convictions for moving violations in a CMV.

William D. Koiner

Mr. Koiner, 31, has had amblyopia in his left eye since childhood. The visual acuity in his right eye is 20/20, and in his left eye, 20/100. Following an examination in 2014, his optometrist stated, “The above individual has sufficient vision to operate a commercial vehicle.” Mr. Koiner reported that he has driven straight trucks for one year, accumulating 10,000 miles, and tractor-trailer combinations for 6.5 years, accumulating 650,000 miles. He holds a Class A CDL from Texas. His driving record for the last 3 years shows no crashes and no convictions for moving violations in a CMV.

Jesse L. Lichtenberger

Mr. Lichtenberger, 32, has had refractive amblyopia in his left eye since childhood. The visual acuity in his right eye is 20/20, and in his left eye, 20/400. Following an examination in 2014, his ophthalmologist stated, “It is of my opinion that Jesse certainly has sufficient vision to perform the driving tasks required to operate a commercial vehicle.” Mr. Lichtenberger reported that he has driven straight trucks for 14 years, accumulating 504,000 miles, and tractor-trailer combinations for 10 years, accumulating 360,000 miles. He holds a Class A CDL from Pennsylvania. His driving record for the last 3 years shows no crashes and no convictions for moving violations in a CMV.

David J. Nocton

Mr. Nocton, 70, has had amblyopia in his left eye since childhood. The visual acuity in his right eye is 20/20, and in his left eye, 20/100. Following an examination in 2014, his ophthalmologist stated, “I certainly believe that his vision is sufficient to perform the driving tasks required to operate a commercial vehicle.” Mr. Nocton reported that he has driven buses for 14 years, accumulating 385,000 miles. He holds a Class B CDL from Minnesota. His driving record for the last 3 years shows no crashes and no convictions for moving violations in a CMV.

Darren W. Pruett

Mr. Pruett, 48, has had open globe trauma in his left eye due to a traumatic incident in 2009. The visual acuity in his right eye is 20/20, and in his left eye, no light perception. Following an examination in 2014, his optometrist stated, “In my opinion is [sic] having had this defect for 5 years and maintaining a safe driving record he would have sufficiently learned how to adapt to his visual deficit by now and would be qualified to continue driving commercially.” Mr. Pruett reported that he has driven straight trucks for 5 years, accumulating 175,000 miles, and tractor-trailer combinations for 13 years, accumulating 1.89 million miles. He holds a Class A CDL from Texas. His driving record for the last 3 years shows one crash, for which he was not cited and to which he did not contribute, and no convictions for moving violations in a CMV.

Frederick E. Schaub

Mr. Schaub, 57, has had optic atrophy in his left eye since birth. The visual acuity in his right eye is 20/20, and in his left eye, no light perception. Following an examination in 2014, his ophthalmologist stated, “Based on his examination, and with the use of left sided mirrors, I do not see any contraindication to renewing his CDL.” Mr. Schaub reported that he has driven straight trucks for 39 years, accumulating 1.46 million miles, and tractor-trailer combinations for 20 years, accumulating 250 miles. He holds a Class A CDL from Iowa. His driving record for the last 3 years shows no crashes and no convictions for moving violations in a CMV.

Michael R. Seldomridge

Mr. Seldomridge, 41, has had amblyopia in his left eye since childhood. The visual acuity in his right eye is 20/25, and in his left eye, 20/50. Following an examination in 2014, his optometrist stated, “It is my opinion that Mr. Seldomridge has sufficient vision to perform that driving tasks required to operate a commercial vehicle.” Mr. Seldomridge reported that he has driven straight trucks for 26 years, accumulating 390,000 miles, and tractor-trailer combinations for 20 years, accumulating 20,000 miles. He holds a Class A CDL from Florida. His driving record for the last 3 years shows no crashes and no convictions for moving violations in a CMV.

Michael G. Somma

Mr. Somma, 32, has had amblyopic vision loss and aphakia in his left eye due to a traumatic incident during childhood. The visual acuity in his right eye is 20/15, and in his left eye, 20/100. Following an examination in 2014, his ophthalmologist stated, “His visual acuity in his left eye is stable with no evidence of progressive change. . .I see no contraindication to his use of operating and driving commercial vehicle [sic].” Mr. Somma reported that he has driven straight trucks for 15 years, accumulating 300,000 miles. He holds an operator's license from New York. His driving record for the last 3 years shows no crashes and no convictions for moving violations in a CMV.

Mark J. Stanley

Mr. Stanley, 54, has a partial retinal detachment in his right eye due to a traumatic incident in 1979. The visual acuity in his right eye is 20/300, and in his left eye, 20/20. Following an examination in 2014, his optometrist stated, “Mark has been driving for 35 years and has adapted well to his visual condition. I certify that Mark Stanley is well qualified to continue commercial driving as he has for the past many years.” Mr. Stanley reported that he has driven tractor-trailer combinations for 14 years, accumulating 840,000 miles. He holds a Class AM1 CDL from California. His driving record for the last 3 years shows no crashes and no convictions for moving violations in a CMV.

Jason E. Thomas

Mr. Thomas, 28, has enucleation in his left eye due to a traumatic incident in 2007. The visual acuity in his right eye is 20/15, and in his left eye, no light perception. Following an examination in 2014, his ophthalmologist stated, “In my medical opinion Jason has sufficient vision to drive a commercial vehicle.” Mr. Thomas reported that he has driven straight trucks for 10 years, accumulating 50,000 miles, and tractor-trailer combinations for 10 years, accumulating 50,000 miles. He holds an operator's license from North Dakota. His driving record for the last 3 years shows no crashes and no convictions for moving violations in a CMV.

Michael K. Toodle

Mr. Toodle, 60, has had optic atrophy in his left eye since 2009. The visual acuity in his right eye is 20/20, and in his left eye, counting fingers. Following an examination in 2014, his optometrist stated, “I Dr. Hamm certifies [sic] that in my medical opinion, Michael K. Toodle have [sic] sufficient vision to perform the driving tasks required to operate a commercial vehicle.” Mr. Toodle reported that he has driven tractor-trailer combinations for 42 years, accumulating 4.2 million miles. He holds an operator's license from North Carolina. His driving record for the last 3 years shows no crashes and three convictions for moving violations in a CMV; in one instance he exceeded the speed limit by nine mph; in two others he failed to obey traffic signs.

Troy W. Weaver

Mr. Weaver, 41, has had a Lasik vision complication in his left eye since 2008. The visual acuity in his right eye is 20/20, and in his left eye, 20/400. Following an examination in 2014, his optometrist stated, “I certify that Mr. Weaver has sufficient vision to perform the driving tasks required to operate a commercial vehicle.” Mr. Weaver reported that he has driven straight trucks for 15 years, accumulating 7,500 miles. He holds an operator's license from Pennsylvania. His driving record for the last 3 years shows no crashes and no convictions for moving violations in a CMV.

Diane L. Wedebrand

Ms. Wedebrand, 53, has had amblyopia in her right eye since birth. The visual acuity in her right eye is 20/150, and in her left eye, 20/20. Following an examination in 2014, her optometrist stated, “I, Dr. Craig Baker, in my medical opinion that Diane L. Wedebrand has sufficient vision to perform the driving tasks required to operate a commercial vehicle.” Ms. Wedebrand reported that she has driven straight trucks for 8 years, accumulating 9,600 miles. She holds an operator's license from Iowa. Her driving record for the last 3 years shows no crashes and no convictions for moving violations in a CMV.

Eddie L. Wilkins

Mr. Wilkins, 65, has cyclodialysis and retinal scarring in his right eye due to a traumatic incident during childhood. The visual acuity in his right eye is no light perception, and in his left eye, 20/20. Following an examination in 2014, his optometrist stated, “In my medical opinion Mr. Wilkins has sufficient vision to operate a commercial vehicle.” Mr. Wilkins reported that he has driven straight trucks for 20 years, accumulating 400,000 miles, tractor-trailer combinations for 3 years, accumulating 12,000 miles, and buses for 3 years, accumulating 24,030 miles. He holds a Class B CDL from Virginia. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2014-0299 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2014-0299 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Issued on: December 1, 2014.
Larry W. Minor,
Associate Administrator for Policy.

[FR Doc. 2014-28959 Filed 12-9-14; 8:45 am]

BILLING CODE 4910-EX-P